NUCLEAR REGULATORY COMMISSION

[Docket Nos. 50-266 and 50-301]

Nuclear Management Company, Llc (Nmc), Point Beach Nuclear Plant, Units 1 and 2; Notice of Availability of the Final Supplement 23 to the Generic Environmental Impact Statement Regarding License Renewal for Point Beach Nuclear Plant, Units 1 and 2

Notice is hereby given that the U.S. Nuclear Regulatory Commission (Commission) has published a final plant-specific supplement to the “Generic Environmental Impact Statement for License Renewal of Nuclear Plants” (GEIS), NUREG-1437, regarding the renewal of operating licenses DPR-24 and DPR-27 for an additional 20 years of operation at Point Beach Nuclear Plant, Units 1 and 2 (PBNP). PBNP is operated by Nuclear Management Company, LLC (NMC) and is owned by Wisconsin Electric Power Company (WEPCO). PBNP is located on the western shore of Lake Michigan in Two Rivers, Wisconsin, approximately 30 miles southeast of Green Bay, Wisconsin. Possible alternatives to the proposed action (license renewal) include no action and reasonable alternative energy sources. As discussed in Section 9.3 of the final Supplement 23, based on (1) The analysis and findings in the GEIS, (2) the NMC Environmental Report; (3) consultation with Federal, State, and local agencies; (4) the staff's own independent review; and (5) the staff's consideration of public comments, the recommendation of the staff is that the Commission determine that the adverse environmental impacts of license renewal for PBNP are not so great that preserving the option of license renewal for energy-planning decision makers would be unreasonable.

The final Supplement 23 to the GEIS is publicly available at the NRC's Agencywide Documents Access and Management System (ADAMS). ADAMS is accessible at http://www.nrc.gov/reading-rm/adams.html; a link is provided to access documents through the Internet-based component of ADAMS. The accession number for the final Supplement 23 to the GEIS is ML052230490. Persons who do not have access to ADAMS, or who encounter problems in accessing the documents located in ADAMS, should contact the NRC's PDR Reference staff at 1-800-397-4209, or 301-415-4737, or by e-mail at pdr@nrc.gov. In addition, the Lester Public Library, located at 1001 Adams Street, Two Rivers, Wisconsin, has agreed to make the final Supplement 23 to the GEIS available for public inspection.

For further information, contact: Ms. Stacey Imboden, License Renewal and Environmental Impacts Program, Division of Regulatory Improvement Programs, U.S. Nuclear Regulatory Commission, Washington, DC, 20555. Ms. Imboden may be contacted at 1-800-368-5642, extension 2462 or via e-mail at SXF@nrc.gov.

Dated at Rockville, Maryland, this 12th day of August, 2005.
For the Nuclear Regulatory Commission.
Andrew Kugler,
Acting Program Director, License Renewal and Environmental Impacts Program, Division of Regulatory Improvement Programs, Office of Nuclear Reactor Regulation.

[FR Doc. E5-4530 Filed 8-18-05; 8:45 am]

BILLING CODE 7590-01-P